DEPARTMENT OF COMMERCE

Foreign-Trade Zones Board

[B-81-2013]

Subzone 7F; Puma Energy Caribe, LLC (Biodiesel Blending); Bayamon, Puerto Rico

On August 26, 2013, Puma Energy Caribe, LLC submitted a notification of proposed production activity to the Foreign-Trade Zones (FTZ) Board for its facility within Subzone 7F, in Bayamon, Puerto Rico.

The notification was processed in accordance with the regulations of the FTZ Board (15 CFR part 400), including notice in the Federal Register inviting public comment (78 FR 54623, 9-5-2013). Pursuant to Section 400.37, the FTZ Board has determined that further review is warranted and has not authorized the proposed activity. If the applicant wishes to seek authorization for this activity, it will need to submit an application for production authority, pursuant to Section 400.23.

Dated: January 9, 2014.
Andrew McGilvray,
Executive Secretary.

[FR Doc. 2014-00535 Filed 1-13-14; 8:45 am]

BILLING CODE 3510-DS-P